DEPARTMENT OF EDUCATION

34 CFR Part 668

[Docket ID ED-2017-OPE-0090]

Program Integrity: Gainful Employment

AGENCY: Office of Postsecondary Education, Department of Education.

ACTION: Announcement of applicable dates; request for comments.

SUMMARY: On January 6 and January 19, 2017, the Department announced dates by which institutions subject to the Department's gainful employment (GE) regulations must comply with certain provisions of the GE regulations relating to the submission of alternate earnings appeals and disclosure requirements. On March 6, 2017, the Department announced that it was allowing additional time, until July 1, 2017, to comply with those provisions. On June 15, 2017, the Department announced its intention to negotiate issues related to gainful employment. This document announces that the Department allows additional time, until July 1, 2018, for institutions to comply with certain disclosure requirements in the GE regulations and invites comment on this action. The Department also extends the deadline for all programs to file alternate earnings appeals in light of the Court Order in American Association of Cosmetology Schools v. DeVos, Civil Action No. 17-0263, D.D.C. June 28, 2017 (Court Order). We will issue a Federal Register notice to specifically implement the Court Order, including establishing new deadlines, and anticipate doing so within 30 days from the publication date of this notice. We do not change the July 1, 2017, deadline for the requirement to provide a completed disclosure template, or a link thereto, on GE program Web pages.

DATES: The Department is allowing additional time—until July 1, 2018—for institutions to comply with 34 CFR 668.412(d) and (e). We must receive your comments on or before August 4, 2017.

ADDRESSES: Submit your comments through the Federal eRulemaking Portal or via U.S. mail, commercial delivery, or hand delivery. We will not accept comments by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “Are you new to this site?”

U.S. Mail, Commercial Delivery, or Hand Delivery: If you mail or deliver your comments, address them to Scott Filter, U.S. Department of Education, 400 Maryland Ave. SW., Room 6W253, Washington, DC 20202.

Privacy Note: The Department's policy for comments received from members of the public (including comments submitted by mail, commercial delivery, or hand delivery) is to make these submissions available for public viewing in their entirety on the Federal eRulemaking Portal at www.regulations.gov. Therefore, commenters should be careful to include in their comments only information that they wish to make publicly available on the internet.

FOR FURTHER INFORMATION CONTACT: Scott Filter, U.S. Department of Education, 400 Maryland Ave., SW., Room 6W253, Washington, DC 20202. Telephone: (202) 453-7249 or by email at: Scott.Filter@ed.gov.

If you use a telecommunications device for the deaf (TDD) or a text telephone (TTY), call the Federal Relay Service (FRS), toll free, at 1-800-877-8339.

SUPPLEMENTARY INFORMATION: On January 6 and January 19, 2017, the Department announced dates by which institutions subject to the Department's GE regulations must comply with certain provisions of the GE regulations relating to the submission of alternate earnings appeals and disclosure requirements. On March 6, 2017, the Department announced that it was allowing additional time, until July 1, 2017, to comply with those provisions. On June 16, 2017, the Department announced its intention to negotiate issues related to gainful employment.

Consistent with the Department's March 6, 2017 announcement, by July 1, 2017, institutions must comply with the requirement in 34 CFR 668.412(c) to provide a completed disclosure template, or a link thereto, on its GE program Web pages. The revised template is available for use at https://www2.ed.gov/policy/highered/reg/hearulemaking/2009/negreg-summerfall.html. The Department believes that it should evaluate the utility of these disclosures to students and the implementation of this requirement prior to requiring institutions to include the disclosure template, or a link thereto, in their GE program promotional materials and to directly distribute the disclosure template to prospective students under 34 CFR 668.412(d) and (e). Moreover, the Department expects to further review these requirements as part of its review of the GE regulations and their implementation, including through negotiated rulemaking. Accordingly, the Department is allowing institutions additional time—until July 1, 2018—to comply with the provisions in 34 CFR 668.412(d) and (e).

The Department also extends the deadline for all programs to file alternate earnings appeals in light of the Court Order. We will issue a Federal Register notice to specifically implement the Court Order, including establishing new deadlines, and anticipate doing so within 30 days from the publication date of this notice.

We are inviting your comments on this action. We will consider these comments in determining whether to take any future action in connection with the implementation of the disclosure requirements.

Accessible Format: Individuals with disabilities can obtain this document in an accessible format (e.g., braille, large print, audiotape, or compact disc) on request to the program contact person listed under FOR FURTHER INFORMATION CONTACT.

Electronic Access to This Document: The official version of this document is the document published in the Federal Register. Free internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at this site.

You may also access documents of the Department published in the Federal Register by using the article search feature at: www.federalregister.gov. Specifically, through the advanced search feature of this site, you can limit your search to documents published by the Department.

Dated: June 30, 2017.
Betsy DeVos,
Secretary of Education.

[FR Doc. 2017-14186 Filed 6-30-17; 4:15 pm]

BILLING CODE 4000-01-P